FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than December 23, 2024.

A. Federal Reserve Bank of Chicago (Colette A. Fried, Assistant Vice President) 230 South LaSalle Street, Chicago, Illinois 60690-1414. Comments can also be sent electronically to Comments.applications@chi.frb.org:

1. The Gabrielse Joint Revocable Trust, Bruce J. Gabrielse and Barbara L. Gabrielse, as co-trustees, all of Fitchburg, Wisconsin; the Jack and Denise Gabrielse Revocable Trust, Jack L. Gabrielse and Denise L. Gabrielse, as co-trustees, all of Oregon, Wisconsin; and the Gabrielse Joint Revocable Trust, Brian J. Gabrielse and Jennifer K. Gabrielse, as co-trustees, all of Madison, Wisconsin; to join the Gabrielse Family Control Group, a group acting in concert, to retain voting shares of Oak Financial, Inc., and thereby indirectly retain voting shares of Oak Bank, both of Fitchburg, Wisconsin.

B. Federal Reserve Bank of St. Louis (Holly A. Rieser, Senior Manager) P.O. Box 442, St. Louis, Missouri 63166-2034. Comments can also be sent electronically to Comments.applications@stls.frb.org:

1. Thomas Marion Frazer, Warren, Arkansas; to acquire additional voting shares of Warren Bank and Trust Company, also of Warren, Arkansas.

C. Federal Reserve Bank of Minneapolis (Mark Rauzi, Vice President) 90 Hennepin Avenue, Minneapolis, Minnesota 55480-0291. Comments can also be sent electronically to MA@mpls.frb.org:

1. Victoria L. Holinka, Maple Grove, Minnesota, as Independent trustee, and John R. Spalj, Scottsdale, Arizona, as Family trustee, of the Nicole Spalj 2025 Exempt Trust, the Bianca Spalj 2025 Exempt Trust, and the Chauntel Spalj 2025 Exempt Trust, all of Scottsdale, Arizona; and John Ohlin, Baxter, Minnesota, as trustee of the Nicole Spalj Escrow Trust, the Bianca Spalj Escrow Trust and the Chauntel Spalj Escrow Trust, all of Scottsdale, Arizona; to become members of the Spalj Family Control Group, a group acting in concert, to acquire voting shares of Deerwood Bancshares, Inc., Baxter, Minnesota, and thereby indirectly acquire voting shares of Deerwood Bank, Waite Park, Minnesota. John R. Spalj was previously permitted by the Federal Reserve System to acquire voting shares of Deerwood Bancshares, Inc., and to join the Spalj Family Control Group.

Board of Governors of the Federal Reserve System.
Michele Taylor Fennell,
Associate Secretary of the Board.

[FR Doc. 2024-28731 Filed 12-5-24; 8:45 am]

BILLING CODE P